SECURITIES AND EXCHANGE COMMISSION

[Release No. 34-45379A; File Nos. SR-NASD-2001-64 and SR-NASD-2001-68]

Self Regulatory Organizations; Order Granting Approval of Proposed Rule Changes by the National Association of Securities Dealers, Inc., To Adjust the Fees Charged to NASD Non-Members for the Use of the Nasdaq National Market Execution System and the SelectNet Service

January 31, 2002.

Correction

In FR Document No. 02-2962, beginning on page 5867 for Thursday February 7, 2002, the first sentence of Section V. on page 5868 was incorrectly stated. The sentence should read as follows:

It is therefore ordered, pursuant to section 19(b)(2) of the Act,¹ that proposed rule change File No. SR-NASD-2001-64 be and hereby is approved and that proposed rule change File No. SR-NASD-2001-68 be and hereby is approved on a pilot basis through October 31, 2002.

¹ 15 U.S.C. 78s(b)(2).

For the Commission, by the Division of Market Regulation, pursuant to delegated authority.²
² 17 CFR 200.30-3(a)(12).
Dated: February 11, 2002.
Margaret H. McFarland,
Deputy Secretary.

[FR Doc. 02-3715 Filed 2-14-02; 8:45 am]

BILLING CODE 8010-01-P